DEPARTMENT OF TRANSPORTATION

Federal Aviation Administration

14 CFR Part 97

[Docket No. 30454; Amdt. No. 3129]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 19, 2005. The compliance date for each SIAP and/or Weather Takeoff Minimums is specified in the amendatory provisions.

The incorporation by reference of certain publications listed in the regulations is approved by the Director of the Federal Register as of August 19, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on August 12, 2005.
James J. Ballough,
Director, Flight Standards Service.

Adoption of the Amendment

Accordingly, pursuant to the authority delegated to me, under title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 29 September 2005

Newnan, GA, Newnan Coweta County, RNAV (GPS) RWY 32, Amdt 1

Ocean City, MD, Ocean City Muni, VOR-A, Amdt 3

Goldsboro, NC, Goldsboro-Wayne Muni, RNAV (GPS) RWY 5, Orig

Goldsboro, NC, Goldsboro-Wayne Muni, RNAV (GPS) RWY 23, Orig

Goldsboro, NC, Goldsboro-Wayne Muni, ILS OR LOC RWY 23, Amdt 1

Goldsboro, NC, Goldsboro-Wayne Muni, NDB RWY 23, Amdt 1

Goldsboro, NC, Goldsboro-Wayne Muni, VOR-A, Amdt 5

Goldsboro, NC, Goldsboro-Wayne Muni, Takeoff Minimums and Textual DP, Orig

Statesville, NC, Statesville Regional, RNAV (GPS) RWY 28, Amdt 1

Statesville, NC, Statesville Regional, LOC/DME RWY 28, Amdt 1

Lancaster, PA, Lancaster, VOR/DME RWY 31, Amdt 4

Philadelphia, PA, Northeast Philadelphia, VOR RWY 6, Amdt 12

Philadelphia, PA, Northeast Philadelphia, VOR RWY 24, Amdt 19

Philadelphia, PA, Northeast Philadelphia, LOC BC RWY 6, Amdt 7

Philadelphia, PA, Northeast Philadelphia, ILS OR LOC RWY 24, Amdt 12

Philadelphia, PA, Northeast Philadelphia, RNAV (GPS) RWY 6, Orig

Philadelphia, PA, Northeast Philadelphia, RNAV (GPS) RWY 15, Orig

Philadelphia, PA, Northeast Philadelphia, GPS RWY 15, Amdt 1, CANCELLED

Philadelphia, PA, Northeast Philadelphia, RNAV (GPS) RWY 24, Orig

Philadelphia, PA, Northeast Philadelphia, RNAV (GPS) RWY 33, Orig

Philadelphia, PA, Northeast Philadelphia, GPS RWY 33, Amdt 1, CANCELLED

Pittsburgh, PA, Pittsburgh International, RNAV (GPS) RWY 10C, Amdt 3

Pittsburgh, PA, Pittsburgh International, RNAV (GPS) RWY 10L, Amdt 3

Pittsburgh, PA, Pittsburgh International, RNAV (GPS) RWY 10R, Amdt 3

Pittsburgh, PA, Pittsburgh International, RNAV (GPS) RWY 14, Amdt 3

Pittsburgh, PA, Pittsburgh International, RNAV (GPS) RWY 28C, Amdt 3

Pittsburgh, PA, Pittsburgh International, RNAV (GPS) RWY 28L, Amdt 3

Pittsburgh, PA, Pittsburgh International, RNAV (GPS) RWY 28R, Amdt 3

Pittsburgh, PA, Pittsburgh International, RNAV (GPS) RWY 32, Amdt 3

Pittsburgh, PA, Pittsburgh International, RNAV (GPS) Y RWY 14, Orig, CANCELLED

Pittsburgh, PA, Pittsburgh International, RNAV (GPS) Y RWY 28C, Amdt 1A, CANCELLED

Pittsburgh, PA, Pittsburgh International, RNAV (GPS) Y RWY 28L, Amdt 1B, CANCELLED

Pittsburgh, PA, Pittsburgh International, RNAV (GPS) Y RWY 32, Amdt 1A, CANCELLED

Houston, TX, Pearland Regional, RNAV (GPS) RWY 32L, Amdt 1

Houston, TX, Weiser Air Park, RNAV(GPS)-G, Amdt 1

Liberty, TX, Liberty Muni, RNAV (GPS) RWY 16, AMDT 1

* * * Effective 27 October 2005

Egegik, AK, Egegik, RNAV (GPS) RWY 12, Amdt 1

Egegik, AK, Egegik, RNAV (GPS) RWY 30, Amdt 1

Roseburg, OR, Roseburg Regional, Takeoff Minimums and Textual DP, Amdt 4

Providence, RI, Theodore Francis Green State, ILS OR LOC RWY 5, Amdt 19, ILS RWY 5 (CAT II) ILS RWY 5 (CAT III)

Providence, RI, Theodore Francis Green State, RNAV (GPS) RWY 5, Orig

Providence, RI, Theodore Francis Green State, RNAV (GPS) Y RWY 5, Orig, CANCELLED

Providence, RI, Theodore Francis Green State, RNAV (GPS) Z RWY 5, Orig-A, CANCELLED

Charleston, SC, Charleston AFB/INTL, ILS OR LOC RWY 15, Amdt 21 ILS RWY 15 (CAT II), Amdt 21

Charleston, SC, Charleston AFB/INTL, ILS OR LOC RWY 33, Amdt 5

Charleston, SC, Charleston AFB/INTL, RADAR-1, Amdt 17

Charleston, SC, Charleston AFB/INTL, VOR/DME OR TACAN RWY 15, Amdt 14

Charleston, SC, Charleston AFB/INTL, VOR/DME OR TACAN RWY 21, Amdt 14

Charleston, SC, Charleston AFB/INTL, VOR/DME OR TACAN RWY 33, Amdt 13

Charleston, SC, Charleston AFB/INTL, Takeoff Minimums and Textual DP, Amdt 5

Chattanooga, TN, Lovell Field, RNAV (GPS) RWY 20, Orig

Chattanooga, TN, Lovell Field, RNAV (GPS) RWY 2, Orig

Chattanooga, TN, Lovell Field, RNAV (GPS) RWY 15, Orig

Chattanooga, TN, Lovell Field, RNAV (GPS) RWY 33, Orig

Chattanooga, TN, Lovell Field, ILS OR LOC RWY 2, Amdt 7

Chattanooga, TN, Lovell Field, ILS OR LOC RWY 20, Amdt 36, ILS RWY 20 (CAT II), Amdt 36

Chattanooga, TN, Lovell Field, RADAR-1, Amdt 9

Chattanooga, TN, Lovell Field, NDB RWY 20, Amdt 31

Chattanooga, TN, Lovell Field, VOR RWY 33, Amdt 17

Chattanooga, TN, Lovell Field, Takeoff Minimums and Textual DP, Amdt 10

Springfield, TN, Springfield Robertson County, RNAV (GPS) RWY 4, Orig

Springfield, TN, Springfield Robertson County, RNAV (GPS) RWY 22, Orig

Springfield, TN, Springfield Robertson County, LOC RWY 4, Amdt 1

Springfield, TN, Springfield Robertson County, NDB RWY 4, Amdt 1

Springfield, TN, Springfield Robertson County, NDB OR GPS RWY 22, Amdt 4, CANCELLED

Springfield, TN, Springfield Robertson County, Takeoff Minimums and Textual DP, Orig

Logan UT, Logan-Cache, VOR OR GPS-A, Amdt 6C, CANCELLED

Ogden, UT, Ogden-Hinckley, ILS OR LOC RWY 3, Amdt 4

Ogden, UT, Ogden-Hinckley, RNAV (GPS) Y RWY 3, Orig

Ogden, UT, Ogden-Hinckley, RNAV (GPS) Z RWY 3, Orig

Ogden, UT, Ogden-Hinckley, GPS RWY 3, Orig, CANCELLED

The FAA published an Amendment in Docket No. 30452, Amdt No. 3128 to Part 97 of the Federal Aviation Regulations (Vol. 70, FR No. 155, page 47091, dated 12 Aug 2005) Under section 97.27 effective for 1 Sep 2005 which is hereby correcting the Airport Name to read as follows:

Sacramento, CA, Sacramento Executive, NDB RWY 2, Amdt 9, CANCELLED

The FAA published an Amendment in Docket No. 30452, Amdt No. 3128 to Part 97 of the Federal Aviation Regulations (Vol. 70, FR No. 155, page 47092, dated 12 Aug 2005) Under section 97.27 effective for 1 Sep 2005 which is hereby correcting the City Name to read as follows:

Whitefield, NH, Mount Washington Regional, NDB RWY 10, Amdt 8, CANCELLED

The FAA published an Amendment in Docket No. 30452, Amdt No. 3128 to Part 97 of the Federal Aviation Regulations (Vol. 70, FR No. 155, page 47091, dated 12 Aug 2005) Under section 97.27 effective for 1 Sep 2005 which is hereby rescinding the Cancellation in its entirety:

Chandler, AZ, Chandler Muni, NDB RWY 4R, Orig-A, CANCELLED

The FAA published an Amendment in Docket No. 30452, Amdt No. 3128 to Part 97 of the Federal Aviation Regulations (Vol. 70, FR No. 155, page 47093, dated 12 Aug 2005) Under section 97.29 effective for 1 Sep 2005 which are hereby corrected to be effective for 27 Oct 2005:

Providence, RI, Theodore Francis Green State, ILS OR LOC RWY 5, Amdt 19

The FAA published an Amendment in Docket No. 30452, Amdt No. 3128 to Part 97 of the Federal Aviation Regulations (Vol. 70, FR No. 155, page 47092, dated 12 Aug 2005) Under section 97.27 effective for 1 Sep 2005 which is hereby corrected to read:

St. Petersburg-Clearwater, Fl, St. Petersburg-Clearwater Intl, NDB RWY 17L, Amdt 20C, CANCELLED

[FR Doc. 05-16408 Filed 8-18-05; 8:45 am]

BILLING CODE 4910-13-P